DEPARTMENT OF LABOR

Employment and Training Administration

[TA-W-53,342]

Halmode Apparel, Inc., Roanoke, Virgina; Notice of Termination of Investigation

Pursuant to section 221 of the Trade Act of 1974, as amended, an investigation was initiated on October 24, 2003, in response to a worker petition filed on behalf of workers at Halmode Apparel, Inc., Roanoke, Virginia.

The petitioning group of workers is covered by an earlier petition instituted on October 6, 2003 (TA-W-53,156), that is the subject of an ongoing investigation for which a determination has not yet been issued. Further investigation in this case would serve no purpose. Consequently, the investigation under this petition has been terminated.

Signed at Washington, DC, this 5th day of November, 2003.
Linda G. Poole,
Certifying Officer, Division of Trade Adjustment Assistance.

[FR Doc. 03-29677 Filed 11-26-03; 8:45 am]

BILLING CODE 4510-30-P